DEPARTMENT OF DEFENSE

Department of the Army; Board of Visitors, United States Military Academy

AGENCY: United States Military Academy, DOD.

ACTION: Notice of open meeting.

SUMMARY: In accordance with Section 10 (a)(2) of the Federal Advisory Committee Act (P.L. 92-463), announcement is made of the following meeting:

Name of Committee: Board of Visitors, United States Military Academy.

Date of Meeting: 24 February 2000.

Place of Meeting: Veterans Affairs Conference Room, Room 418, Senate Russell Office Bldg, Washington, DC.

Start Time of Meeting: Approximately 9:00 a.m.

FOR FURTHER INFORMATION CONTACT: For further information, contact Lieutenant Colonel Lawrence J. Verbiest, United States Military Academy, West Point, NY 10996-5000, (914) 938-4200.

SUPPLEMENTARY INFORMATION: Proposed Agenda: Organizational Meeting of the Board of Visitors. All proceedings are open.

Gregory D. Showalter,
Army Federal Register Liaison Officer.

[FR Doc. 00-1821 Filed 1-25-00; 8:45 am]

BILLING CODE 3710-08-M